INTERNATIONAL TRADE COMMISSION

[Investigation No. 337-TA-881]

Certain Windshield Wiper Devices and Components Thereof; Notice of Commission Determination Not To Review an Initial Determination Granting Complainants' Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 27) granting the motion of complainants Federal-Mogul Corporation of Southfield, Michigan and Federal-Mogul S.A. of Aubange, Belgium (collectively “Federal-Mogul”) to amend the complaint to correct respondent Trico Corporation's corporate name and to identify additional accused products.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 11, 2013, based on a complaint filed by Federal-Mogul. 78 FR 35050-51 (June 11, 2013). The complaint alleges violations of section 337 of the Tariff Act of 1930, as amended, 19 U.S.C. 1337, by reason of infringement of certain claims of U.S. Patent No. 8,347,449. The complaint further alleges the existence of a domestic industry. The Commission's Notice of Investigation named as respondents Trico Corporation of Rochester Hills, Michigan (“Trico Corp.”); Trico Products of Brownsville, Texas; and Trico Components, SA de CV of Matamoros, Mexico. The Office of Unfair Import Investigations was also named as a party.

On December 23, 2013, Federal-Mogul filed a motion for leave to amend the complaint and notice of investigation (“NOI”) to correct Trico Corp.'s corporate name to Trico Products Corporation and to identify additional accused products. The motion indicated that the Commission investigative attorney did not oppose the motion. Respondents did not file a response.

On January 22, 2014, the ALJ issued the subject ID, granting Federal-Mogul's motion pursuant to section 210.14(b)(1) of the Commission's Rules of Practice and Procedure (19 CFR 210.14(b)(1)). The ALJ found that good cause exists to amend the complaint and NOI to correct Trico Product Corporation's corporate name and to add the additional products. The ALJ noted that Federal-Mogul learned that it had incorrectly identified Trico Product Corporation only after filing its complaint. The ALJ also found that Federal-Mogul learned of the additional products during discovery, and thus, after filing its complaint. The ALJ noted that no party opposed the motion, that Trico Products Corporation has fully participated in the investigation, and that the parties have already addressed the additional products during discovery and in their pretrial submissions. The ALJ, therefore, found that no party would be prejudiced by the amendment. No petitions for review were filed.

The Commission has determined not to review the ID.

The authority for the Commission's determination is contained in section 337 of the Tariff Act of 1930, as amended (19 U.S.C. 1337), and in Part 210 of the Commission's Rules of Practice and Procedure (19 CFR Part 210).

By order of the Commission.
Issued: February 18, 2014.
William R. Bishop,
Supervisory Hearings and Information Officer.

[FR Doc. 2014-03700 Filed 2-20-14; 8:45 am]

BILLING CODE 7020-02-P